DEPARTMENT OF THE INTERIOR

National Park Service

[NPS-WASO-NAGPRA-23594; PPWOCRADN0-PCU00RP14.R50000]

Notice of Inventory Completion: University of Pennsylvania Museum of Archaeology and Anthropology, Philadelphia, PA

AGENCY: National Park Service, Interior.

ACTION: Notice.

SUMMARY: The University of Pennsylvania Museum of Archaeology and Anthropology has completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Pennsylvania Museum of Archaeology and Anthropology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Pennsylvania Museum of Archaeology and Anthropology at the address in this notice by September 7, 2017.

ADDRESSES: Dr. Julian Siggers, Williams Director, University of Pennsylvania Museum of Archaeology and Anthropology, 3260 South Street, Philadelphia, PA 19104, telephone (215) 898-4050.

SUPPLEMENTARY INFORMATION: Notice is here given in accordance with the Native American Graves Protection and Repatriation Act (NAGPRA), 25 U.S.C. 3003, of the completion of an inventory of human remains under the control of the University of Pennsylvania Museum of Archaeology and Anthropology, Philadelphia, PA. The human remains were removed from the Brakebill Mound site (40KN55), Knox County, TN.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Pennsylvania Museum of Archaeology and Anthropology professional staff in consultation with representatives of the Alabama-Quassarte Tribal Town; Cherokee Nation; Eastern Band of Cherokee Indians; Kialegee Tribal Town; Poarch Band of Creeks (previously listed as the Poarch Band of Creek Indians of Alabama); The Muscogee (Creek) Nation; Thlopthlocco Tribal Town; and United Keetoowah Band of Cherokee Indians in Oklahoma (herein referred to as “The Consulted Tribes”).

History and Description of the Remains

At some time prior to February of 1837, human remains representing, at minimum, one individual were removed from the Brakebill Mound site (40KN55) in Knox County, TN, by Professor Gerard Troost (b. 1776-d.1850). Professor Troost was a founding member of the Academy of Natural Sciences in Philadelphia and state geologist for Tennessee (1831-1839). The mound is situated at the junction of the French Broad and Holston Rivers on private land. At some time prior to October of 1838, the human remains were loaned to Dr. Samuel G. Morton for his study of human crania from around the world, and accessioned into his collections between 1839 and 1840. In 1853, Dr. Morton's collections were formally presented to the Academy of Natural Sciences of Philadelphia, loaned to the University of Pennsylvania Museum of Archaeology and Anthropology in 1966, and formally gifted to the University of Pennsylvania Museum of Archaeology and Anthropology in 1997 (UPM no. 97-606-992). The human remains consist of a cranium representing a single male, over 50 years old. No known individuals were identified.

Archival records and museum documentation do not designate a specific culture for this individual. Published anthropological information indicates that the Brakebill Mound site is a Dallas Phase archeological site dating from 1300 to 1600 CE. Based on consultation information and published ethnographic and anthropological literature, current evidence suggest that the Dallas Phase archeological culture may be associated with the Muscogee Creek and/or Cherokee cultural traditions. Today, these groups are represented by The Consulted Tribes.

Determinations Made by the University of Pennsylvania Museum of Archaeology and Anthropology

Officials of the University of Pennsylvania Museum of Archaeology and Anthropology have determined that:

• Pursuant to 25 U.S.C. 3001(9), the human remains described in this notice represent the physical remains of one individuals of Native American ancestry.

• Pursuant to 25 U.S.C. 3001(2), there is a relationship of shared group identity that can be reasonably traced between the Native American human remains and The Consulted Tribes.

Additional Requestors and Disposition

Lineal descendants or representatives of any Indian Tribe or Native Hawaiian organization not identified in this notice that wish to request transfer of control of these human remains should submit a written request with information in support of the request to Dr. Julian Siggers, Williams Director, University of Pennsylvania Museum of Archaeology and Anthropology, 3260 South Street, Philadelphia, PA 19104, telephone (215) 898-4050, by September 7, 2017. After that date, if no additional requestors have come forward, transfer of control of the human remains to The Consulted Tribes may proceed.

The University of Pennsylvania Museum of Archaeology and Anthropology is responsible for notifying The Consulted Tribes that this notice has been published.

Dated: June 19, 2017.
Melanie O'Brien,
Manager, National NAGPRA Program.

[FR Doc. 2017-16625 Filed 8-7-17; 8:45 am]

BILLING CODE 4312-52-P